DEPARTMENT OF THE TREASURY

Office of the Comptroller of the Currency

Agency Information Collection Activities: Information Collection Renewal; Submission for OMB Review; Recordkeeping and Disclosure Requirements—Consumer Financial Protection Bureau Regulations B, E, M, Z, and DD and Board of Governors of the Federal Reserve System Regulation CC

AGENCY: Office of the Comptroller of the Currency (OCC), Treasury.

ACTION: Notice and request for comment.

SUMMARY: The OCC, as part of its continuing effort to reduce paperwork and respondent burden, invites the general public and other Federal agencies to comment on the renewal of an information collection, as required by the Paperwork Reduction Act of 1995. An agency may not conduct or sponsor, and a respondent is not required to respond to, an information collection unless it displays a currently valid Office of Management and Budget (OMB) control number. The OCC is soliciting comment concerning the renewal of an information collection titled, “Record and Disclosure Requirements—Consumer Financial Protection Bureau Regulations B, E, M, Z, and DD and Board of Governors of the Federal Reserve System Regulation CC.” The OCC also is giving notice that it has sent the collection to OMB for review.

DATES: Comments must be submitted on or before February 10, 2021.

ADDRESSES: Commenters are encouraged to submit comments by email, if possible. You may submit comments by any of the following methods:

• Email: prainfo@occ.treas.gov.

• Mail: Chief Counsel's Office, Attention: Comment Processing, 1557-0176, Office of the Comptroller of the Currency, 400 7th Street SW, Suite 3E-218, Washington, DC 20219.

• Hand Delivery/Courier: 400 7th Street SW, Suite 3E-218, Washington, DC 20219.

• Fax: (571) 465-4326.

Instructions: You must include “OCC” as the agency name and “1557-0176” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should be sent within 30 days of publication of this notice to www.reginfo.gov/public/do/PRAMain. Find this particular information collection by selecting “Currently under 30-day Review—Open for Public Comments” or by using the search function.

You may review comments and other related materials that pertain to this information collection ¹ following the close of the 30-day comment period for this notice by the following method:

¹ On October 2, 2020, the OCC published a 60-day notice for this information collection, 85 FR 62367.

• Viewing Comments Electronically: Go to www.reginfo.gov. Click on the “Information Collection Review” tab. Underneath the “Currently under Review” section heading, from the drop-down menu select “Department of Treasury” and then click “submit.” This information collection can be located by searching by OMB control number “1557-0176” or “Record and Disclosure Requirements—Consumer Financial Protection Bureau Regulations B, E, M, Z, and DD and Board of Governors of the Federal Reserve System Regulation CC.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, OCC Clearance Officer (202) 649-5490, Chief Counsel's Office, Office of the Comptroller of the Currency, 400 7th Street SW, Washington, DC 20219.

SUPPLEMENTARY INFORMATION: The OCC asks that OMB renew its approval of the following information collection:

Title: Record and Disclosure Requirements—Consumer Financial Protection Bureau Regulations B, E, M, Z, and DD and Board of Governors of the Federal Reserve System Regulation CC.

OMB Control No.: 1557-0176.

Type of Review: Regular review.

Description: This information collection covers Consumer Financial Protection Board Regulations B, E, M, Z, and DD and Board of Governors of the Federal Reserve System (FRB) Regulation CC. The CFPB and FRB Regulations include the following provisions:

Regulation B—12 CFR 1002—Equal Credit Opportunity Act

This regulation prohibits lenders from discriminating against credit applicants on certain prohibited bases. The regulation also requires creditors to notify applicants of action taken on their credit application, to report credit history in the names of both spouses on an account, to retain records of credit applications, to collect information about the applicant's race and other personal characteristics in applications for certain dwelling-related loans, and to provide applicants with copies of appraisal reports used in connection with credit transactions.

Regulation E—12 CFR 1005—Electronic Fund Transfers ²

² This notice does not apply to the Prepaid Account Provisions of Regulation E, which are approved under OMB Control No. 1557-0346.

This regulation carries out the purposes of the Electronic Fund Transfer Act (15 U.S.C. 1693 et seq.), which establishes the basic rights, liabilities, and responsibilities of consumers who use electronic fund transfers and remittance transfer services and of financial institutions or other persons that offer these services.

Regulation M—12 CFR 1013—Consumer Leasing

This regulation implements the consumer leasing provisions of the Truth in Lending Act, including by requiring meaningful disclosure of leasing terms.

Regulation Z—12 CFR 1026—Truth in Lending

This regulation is intended to promote the informed use of consumer credit by requiring disclosures about its terms and cost, including to ensure that consumers are provided with greater and more timely information on the nature and costs of the residential real estate settlement process, and to effect certain changes in the settlement process for residential real estate that will result in more effective advance disclosure to home buyers and sellers of settlement costs. The regulation gives consumers the right to cancel certain credit transactions that involve a lien on a consumer's principal dwelling, regulates certain credit card practices, and provides a means for fair and timely resolution of credit billing disputes. Other provisions include rules specific to credit card accounts, certain dwelling-secured transactions, home-equity plans, and private education loans.

Regulation DD—12 CFR 1030—Truth in Savings

This regulation requires depository institutions to provide disclosures to enable consumers to make meaningful comparisons among accounts at depository institutions.

Regulation CC—12 CFR 229—Availability of Funds and Collection of Checks

This regulation includes timeframes to govern the availability of funds deposited in checking accounts, rules to govern the collection and return of checks and electronic checks, and general provisions to govern the use of substitute checks.

Affected Public: Businesses or other for-profit.

Burden Estimates:

Estimated Number of Respondents: 1,110.

Estimated Annual Burden: 2,937,280 hours.

Frequency of Response: On occasion.

Comments: The OCC issued a notice for 60 days of comment on October 2, 2020, 85 FR 62367. No comments were received. Comments continue to be invited on:

(a) Whether the collection of information is necessary for the proper performance of the functions of the OCC, including whether the information has practical utility;

(b) The accuracy of the OCC's estimate of the information collection burden;

(c) Ways to enhance the quality, utility, and clarity of the information to be collected;

(d) Ways to minimize the burden of the collection on respondents, including through the use of automated collection techniques or other forms of information technology; and

(e) Estimates of capital or start-up costs and costs of operation, maintenance, and purchase of services to provide information.

Bao Nguyen,
Principal Deputy Chief Counsel, Office of the Comptroller of the Currency.

[FR Doc. 2021-00240 Filed 1-8-21; 8:45 am]

BILLING CODE 4810-33-P